DEPARTMENT OF ENERGY

Notice of Request for Information (RFI)—Technology Commercialization Fund

AGENCY: Office of Technology Transitions, Department of Energy (DOE).

ACTION: Request for Information (RFI).

SUMMARY: The U.S. Department of Energy (DOE) invites public comment on its Request for Information (RFI) regarding the Technology Commercialization Fund (TCF). The purpose of this RFI is to seek input on how the Office of Technology Transitions (OTT) might improve the TCF through changes to the program and its structure.

DATES: Responses to the RFI must be received by January 11, 2019.

ADDRESSES: Interested parties are to submit comments electronically to TCFRFI@hq.doe.gov with the subject line “TCF RFI Response” no later than January 11, 2019. All responses must be submitted as a Microsoft Word document (.doc/.docx) of no more than 5 pages in length, with black, Times New Roman, 12 point font, and 1 inch margins as an attachment to an email. The document cannot exceed 2MB in size. Only electronic responses to the above email address will be accepted. DOE will not consider responses submitted by any other means. The complete RFI document is located at https://eere-exchange.energy.gov/Default.aspx#FoaId9996b2e6-2586-457f-98ca-a7bbb5e9cef5.

NOTE: If clicking on the above link gives you an error message, you must CUT AND PASTE the URL into your browser to reach the web page.

FOR FURTHER INFORMATION CONTACT: For general questions, please contact TCFRFI@hq.doe.gov. For specific questions related to collection activities, please contact Donald Macdonald, (202) 586-2676.

SUPPLEMENTARY INFORMATION: The purpose of this Request for Information (RFI) is to seek input about how OTT might improve the TCF through changes to the program and its structure. OTT seeks specific input on the TCF's structure and process, role of project partners, cost share arrangements, and potential to leverage other DOE programs. This RFI builds on previous DOE RFIs related to technology transfer and commercialization topics, including the 2008 Federal Register Notice on DOE Technology Transfer Practices,¹ the 2013 Office of Energy Efficiency and Renewable Energy (EERE) Commercialization RFI,² and OTT's 2015 RFI,³ which included a section about the TCF. Responses to this RFI will serve as a complement to the input collected from these previous requests. The RFI is available at: https://eere-exchange.energy.gov/Default.aspx#FoaId9996b2e6-2586-457f-98ca-a7bbb5e9cef5.

¹ U.S. Department of Energy. “Questions Concerning Technology Transfer Practices at DOE Laboratories.” 73 FR 72036, Doc No. E8-28187. November 26, 2008. https://www.federalregister.gov/articles/2008/11/26/E8-28187/questions-concerning-technology-transfer-practices-at-doe-laboratories.

² U.S. Department of Energy. “Request for Information—EERE Commercialization.” DE-FOA-0001001. September 2013. http://www.grants.gov/web/grants/view-opportunity.html?oppId=243333.

³ U.S. Department of Energy. “Request for Information—Office of Technology Transitions” DE-FOA-0001346. May 2015. https://www.energy.gov/technologytransitions/downloads/de-foa-0001346-request-information-rfi.

NOTE: If clicking on the above link gives you an error message, you must CUT AND PASTE the URL into your browser to reach the web page.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC on November 19, 2018.
Conner H. Prochaska,
Director, Office of Technology Transitions.

[FR Doc. 2018-25838 Filed 11-26-18; 8:45 am]

BILLING CODE 6450-01-P